RAILROAD RETIREMENT BOARD

Proposed Collection; Comment Request

SUMMARY: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection:Application for Survivor Insurance Annuities; OMB 3220-0030.

Under Section 2(d) of the Railroad Retirement Act (RRA), monthly survivor annuities are payable to surviving widow(er)s, parents, unmarried children, and in certain cases, divorced wives (husbands), mothers (fathers), remarried widow(er)s, and grandchildren of deceased railroad employees. The collection obtains the information required by the RRB to determine entitlement to and the amount of the annuity applied for.

The RRB currently utilizes Form(s) AA-17, Application for Widow(ers) Annuity, AA-17b Applications for Determination of Widow(er) Disability, AA-17cert, Application Summary and Certification, AA-18, Application for Mother's/Father's and Child's Annuity, AA-19, Application for Child's Annuity, AA-19a, Application for Determination of Child Disability, and AA-20, Application for Parent's Annuity to obtain the necessary information. The RRB proposes no changes to the forms in the information collection. One response is requested of each respondent. Completion is required to obtain benefits.

Estimate of Annual Respondent Burden

The estimated annual respondent burden is as follows:

Form No.(s) | Annual responses | Time (min) | Burden (hrs)
AA-17 (manual, without assistance) | 100 | 47 | 78
AA-17b (with assistance) | 280 | 40 | 187
AA-17b (without assistance) | 20 | 50 | 17
AA-17cert | 3,000 | 20 | 1,000
AA-18 (manual, without assistance) | 12 | 47 | 9
AA-19 (manual, without assistance) | 9 | 47 | 7
AA-19a (with assistance) | 285 | 45 | 214
AA-19a (without assistance) | 15 | 65 | 16
AA-20 (manual, without assistance) | 1 | 47 | 1

2. Title and purpose of information collection: Employer's Deemed Service Month Questionnaire; OMB 3220-0156.

Section 3 (i) of the Railroad Retirement Act (RRA), as amended by Public Law 98-76, provides that the Railroad Retirement Board (RRB), under certain circumstances, may deem additional months of service in cases where an employee does not actually work in every month of the year, provided the employee satisfies certain eligibility requirements, including the existence of an employment relation between the employee and his or her employer. The procedures pertaining to the deeming of additional months of service are found in the RRB's regulations at 20 CFR Part 210, Creditable Railroad Service.

The RRB utilizes Form GL-99, Employers Deemed Service Months Questionnaire, to obtain service and compensation information from railroad employers needed to determine if an employee can be credited with additional deemed months of railroad service.

The RRB proposes non-burden impacting, editorial and formatting changes to Form GL-99. Completion is mandatory. One response is required for each RRB inquiry. The completion time for Form GL-99 is estimated at 2 minutes per response. The RRB estimates that approximately 4,000 responses are received annually.

3. Title and purpose of information collection:Statement of Claimant or Other Person; OMB 3220-0083.

To support an application for an annuity under Section 2 of the Railroad Retirement Act (RRA) or for unemployment benefits under Section 2 of the Railroad Unemployment Insurance Act (RUIA), pertinent information and proofs must be furnished for the RRB to determine benefit entitlement. Circumstances may require an applicant or other person(s) having knowledge of facts relevant to the applicant's eligibility for an annuity or benefits to provide written statements supplementing or changing statements previously provided by the applicant. Under the railroad retirement program these statements may relate to changes in annuity beginning date(s), dates for marriage(s), birth(s), prior railroad or non-railroad employment, an applicants request for reconsideration of an unfavorable RRB eligibility determination for an annuity or various other matters. The statements may also be used by the RRB to secure a variety of information needed to determine eligibility to unemployment and sickness benefits. Procedures related to providing information needed for RRA annuity or RUIA benefit eligibility determinations are prescribed in 20 CFR parts 217 and 320 respectively.

The RRB utilizes Form G-93, Statement of Claimant or Other Person, to obtain the supplemental or corrective information from applicants or other persons needed to determine applicant eligibility for an RRA annuity or RUIA benefits. The RRB proposes no changes to Form G-93. Completion is voluntary. One response is requested of each respondent. The completion time for Form G-93 is estimated at 15 minutes per response. The RRB estimates that approximately 900 responses are received annually.

Additional Information or Comments: To request more information or to obtain a copy of the information collection justification, forms, and/or supporting material, please call the RRB Clearance Officer at (312) 751-3363. Comments regarding the information collection should be addressed to Ronald J. Hodapp, Railroad Retirement Board, 844 North Rush Street, Chicago, Illinois 60611-2092. Written comments should be received within 60 days of this notice.

Charles Mierzwa,
Clearance Officer.

[FR Doc. E9-9180 Filed 4-21-09; 8:45 am]

BILLING CODE 7905-01-P